DEPARTMENT OF TRANSPORTATION

Office of the Secretary

Notice of Applications for Certificates of Public Convenience and Necessity and Foreign Air Carrier Permits Filed Under Subpart B (Formerly Subpart Q) During the Week Ending October 8, 2010

The following Applications for Certificates of Public Convenience and Necessity and Foreign Air Carrier Permits were filed under subpart B (formerly subpart Q) of the Department of Transportation's Procedural Regulations. (See 14 CFR 301.201 et. seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0246.

Date Filed: October 5, 2010.

Due Date for Answers, Conforming Applications, or Motion to Modify Scope: October 26, 2010.

Description: Application of Kuwait Airways Corporation requesting a foreign air carrier permit and exemption authority to provide foreign air transportation of persons, property and mail between Kuwait and the United States to the full extent allowed by the Air Transport Agreement between the Government of the United States of America and the Government of the State of Kuwait.

Docket Number: DOT-OST-2010-0254.

Date Filed: October 8, 2010.

Due Date for Answers, Conforming Applications, or Motion to Modify Scope: October 29, 2010.

Description: Application of Swiss International Air Lines Ltd. (“Swiss”) requesting issuance of an amended foreign air carrier permit to the full extent authorized by the Air Transport Agreement between the United States of America and The Swiss Confederation to conduct: (i) Scheduled and charter foreign air transportation of persons, property and mail from any point or points behind Switzerland via Switzerland and intermediate points to any point or points in the United States and beyond; (ii) all-cargo service between the United States and any point or points; and (iii) other foreign air transportation of persons, property and mail pursuant to the prior approval requirements under 14 CFR part 212. Swiss further requests a corresponding exemption to enable it to provide the service described above pending issuance of the amended foreign air carrier permit and such additional or other relief as the Department may deem necessary or appropriate.

Renee V. Wright,
Program Manager, Docket Operations, Federal Register Liaison.

[FR Doc. 2010-27034 Filed 10-25-10; 8:45 am]

BILLING CODE 4910-9X-P